DEPARTMENT OF COMMERCE

National Oceanic and Atmospheric Administration

RIN 0648-XA133

National Annual Catch Limit Science Workshop; Meeting Announcement

AGENCY: National Marine Fisheries Service (NMFS), National Oceanic and Atmospheric Administration (NOAA), Commerce.

ACTION: Notice of a public meeting.

SUMMARY: NMFS announces a workshop which will focus potential areas of improvement in scientific information needed to support Annual Catch Limits (ACL) and Accountability Measures (AM). The meeting will be held on February 15-17, 2011, at the Crowne Plaza, Silver Spring, MD. Meeting topics are provided under the SUPPLEMENTARY INFORMATION section of this notice.

DATES: The meeting will be held on February 15-17, 2011, from 9 a.m. to 5 p.m. EST.

ADDRESSES: The meeting will be held at the Crowne Plaza, Silver Spring, 8777 Georgia Avenue, Silver Spring, MD, telephone 1-877-270-1393.

FOR FURTHER INFORMATION CONTACT: Richard Methot, Office of Science and Technology, NMFS at richard.methot@noaa.gov, or at (206) 860-3365.

SUPPLEMENTARY INFORMATION: NOAA Fisheries Service is announcing a National Annual Catch Limit (ACL) Science Workshop on February 15-17, 2011, in Silver Spring, MD. The meeting will be held in conjunction with the regional Fishery Management Councils (Councils) and will involve NOAA Fisheries Service staff, Council representatives and nationally recognized fishery science experts.

The Magnuson-Stevens Fishery Conservation and Management Act (MSA) was amended in 2007, to include a requirement to implement ACLs and accountability measures in the nation's fisheries. This mandate, and the subsequent update of National Standard 1 Guidelines, substantially changed the nature and amount of data needed to manage the nation's fisheries. The workshop will focus on scoping potential improvements in the state of scientific information needed to support implementation of the MSA, particularly the determination and implementation of Annual Catch Limits (ACL). The scope of this science issues associated with ACLs is quite broad, and not all topics can be fully covered. The proposed topics to be addressed include:

• Identifying data needs, and related costs, of conducting additional stock assessments.

• Calculating and communicating uncertainty in stock assessments.

• Considering socio-economic and ecosystem considerations, in the definition of optimum yield.

• Developing cost-effective approaches to developing ACLs and AMs for data-poor stocks.

• How to best use cooperative research programs to augment needed data.

• Coordinating the roles of Science Centers, SSCs, and peer review systems in providing the best scientific information available.

• Identifying improvements to commercial and recreational fishery monitoring programs to provide scientists and managers with the data they need.

Special Accommodations

The meeting location is physically accessible to people with disabilities. Requests for sign language interpretation or other auxiliary aids should be directed to Mark Nelson at (301) 713-2341 at least five working days prior to the meeting.

Authority: 16 U.S.C. 1801 et seq.

Dated: January 13, 2011.
James P. Burgess,
Acting Director, Office of Sustainable Fisheries, National Marine Fisheries Service.

[FR Doc. 2011-1025 Filed 1-18-11; 8:45 am]

BILLING CODE 3510-22-P